NATIONAL ARCHIVES AND RECORDS ADMINISTRATION

Temporary Change in Hours at Central Plains Regional Archives, Kansas City, MO

AGENCY: National Archives and Records Administration (NARA).

ACTION: Notice.

SUMMARY: The Central Plains Regional Archives will be temporarily closed to researchers on Mondays from the week of October 20, 2008, through the week of March 30, 2009, to prepare for relocation to the new Central Plains Regional Headquarters and Regional Archives.

DATES: October 20, 2008 through March 30, 2009.

ADDRESSES: The current address is NARA Central Plains Regional Archives, 2312 East Bannister Road, Kansas City, MO 64131. The new address will be Central Plains Regional Headquarters and Regional Archives, 400 West Pershing Road, Kansas City, MO.

FOR FURTHER INFORMATION CONTACT: Diana Duff at 816-268-8013.

SUPPLEMENTARY INFORMATION: In April 2009, the Central Plains Regional Archives will move to a new facility at the Union Station complex in Kansas City. The new facility will greatly improve public access to archival records and ensure that the archival records are stored under proper environmental conditions. In addition, some of the Region's less frequently used archival holdings are being moved to NARA's Lee's Summit, MO, facility. The temporary, once-weekly closure will allow staff to complete activities necessary for the move, such as reboxing, description, and holdings maintenance. The actual shipping of records will take place through March 2009. During the move, there may be delays in retrieving records that are in transit. A listing of records in transit is posted and regularly updated on the NARA Web site at http://www.archives.gov/central-plains/kansas-city/records-unavailable.html.

Dated: October 14, 2008.
Thomas E. Mills,
Assistant Archivist for Regional Records Services.

[FR Doc. E8-24933 Filed 10-17-08; 8:45 am]

BILLING CODE 7515-01-P